DEPARTMENT OF TRANSPORTATION

Surface Transportation Board

[STB Finance Docket No. 34394]

Union Pacific Railroad Company—Trackage Rights Exemption—The Burlington Northern and Santa Fe Railway Company

The Burlington Northern and Santa Fe Railway Company (BNSF) has agreed to grant overhead trackage rights to Union Pacific Railroad Company (UP) over a line of BNSF's railroad between BNSF milepost 210.2 and BNSF milepost 211.7, a distance of approximately 1.5 miles in Wichita, KS.

The transaction was scheduled to be consummated on or after August 22, 2003.

The purpose of the trackage rights is to facilitate the City of Wichita's Central Rail Corridor Project (the City). This project is designed to minimize rail/vehicle conflicts at existing grade crossings in central Wichita by constructing grade crossings and other improvements on the BNSF route.¹

¹ UP states that the actual use of the trackage rights will not commence until the City has progressed sufficiently to permit the existing UP-BNSF connection near BNSF milepost 211.7 to be moved to a location near BNSF milepost 210.2.

Any employees affected by the subject transaction will be protected by the labor conditions prescribed in Norfolk and Western Ry. Co.—Trackage Rights-BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34394, must be filed with the Surface Transportation Board, 1925 K Street, NW., Washington, DC 20423-0001. In addition, one copy of each pleading must be served on Robert T. Opal, 1416 Dodge Street, Room 830, Omaha, NE 68179.

Board decisions and notices are available on our Web site at http://www.stb.dot.gov.

Decided: August 22, 2003.
By the Board, David M. Konschnik, Director, Office of Proceedings.
Vernon A. Williams,
Secretary.

[FR Doc. 03-22020 Filed 8-28-03; 8:45 am]

BILLING CODE 4915-00-P